Notice of November 1, 2006

Continuation of the National Emergency With Respect to Sudan

On November 3, 1997, by Executive Order 13067, the President declared a national emergency with respect to Sudan pursuant to the International Emergency Economic Powers Act (50 U.S.C. 1701-1706) to deal with the unusual and extraordinary threat to the national security and foreign policy of the United States constituted by the actions and policies of the Government of Sudan. On April 26, 2006, by Executive Order 13400, I expanded the national emergency by determining that the conflict in Sudan's Darfur region posed an unusual and extraordinary threat to the national security and foreign policy of the United States, and I ordered the blocking of property of certain persons connected to that conflict. On October 13, 2006, I issued Executive Order 13412 to amend the comprehensive sanctions with respect to Sudan set forth in Executive Order 13067.

Because the actions and policies of the Government of Sudan continue to pose an unusual and extraordinary threat to the national security and foreign policy of the United States, the national emergency declared on November 3, 1997, as expanded on April 26, 2006, must continue in effect beyond November 3, 2006. Therefore, consistent with section 202(d) of the National Emergencies Act (50 U.S.C. 1622(d)), I am continuing for 1 year the national emergency with respect to Sudan.

This notice shall be published in the Federal Register and transmitted to the Congress.

THE WHITE HOUSE,

November 1, 2006.

[FR Doc. 06-9070

Filed 11-1-06; 11:31 am]

Billing code 3195-01-P